FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 18, 2018.

A. Federal Reserve Bank of Dallas (Robert L. Triplett III, Senior Vice President) 2200 North Pearl Street, Dallas, Texas 75201-2272:

1. Karl E. Hill and the Hill S-Corporation Family Exempt Trust, both of Columbus, Texas; to retain shares of Columbus Bancorp, Inc., and thereby retain shares of The First State Bank, both located in Columbus, Texas. In addition, Notificants have applied to join the Hill Group, as a group acting in concert, to own shares of Columbus Bancorp, Inc.

Board of Governors of the Federal Reserve System, August 27, 2018.
Ann Misback,
Secretary of the Board.

[FR Doc. 2018-18833 Filed 8-29-18; 8:45 am]

BILLING CODE P